DEPARTMENT OF ENERGY

Federal Energy Regulatory Commission

[Docket No. CP18-251-000]

Portland Natural Gas Transmission System; Notice of Application

Take notice that on April 20, 2018, Portland Natural Gas Transmission System (Portland Natural Gas), 700 Louisiana Street, Suite 700, Houston, TX 77002-2700, filed an application under section 7(c) of the Natural Gas Act (NGA) and Parts 157 and 284 of the Commission's rules and regulations for Phase I of the Portland Xpress Project. Portland Natural Gas requests authorization to increase the certificated capacity on its wholly-owned north system from Pittsburg, New Hampshire, to Westbrook, Maine, by 39.841 million cubic feet per day (MMcf/d), and to increase the certificated capacity on its system facilities jointly-owned with Maritimes & Northeast Pipeline, L.L.C. from Westbrook, Maine to Dracut, Massachusetts by 1.641 MMcf/d, effective November 1, 2018, all as more fully described in the application which is on file with the Commission and open to public inspection. The filing may also be viewed on the web at http://www.ferc.gov using the eLibrary link. Enter the docket number excluding the last three digits in the docket number field to access the document. For assistance, contact FERC at FERCOnlineSupport@ferc.gov or call toll-free, (866) 208-3676 or TTY, (202) 502-8659.

Additionally, pursuant to section 3 of the NGA (15 U.S.C. 717b), Part 153 of the Commission's regulations, Executive Order 10485, as amended by Executive Order 12038, and Secretary of Energy Delegation Order No. 0204-112, Portland Natural Gas requests authorization to increase its import and export capacity from 210 MMcf/d to 274.216 MMcf/d. Portland Natural Gas also proposes to amend its Presidential Permit issued on September 24, 1997, as amended on November 18, 2003, and on November 28, 2017, to reflect the increase mentioned above.¹

¹ See Portland Natural Gas Transmission System, 80 FERC 61,346 (1997); 105 FERC 61,235 (2003); and 161 FERC 61,230 (2017).

Portland Natural Gas states that it's Phase I of the Portland XPress Project would expand gas service delivery options for the New England market. Portland Natural Gas proposes no construction or modifications to its existing system or border crossing facilities in connection with this request, and as such, there are no costs associated with the project.

Any questions regarding this application should be directed to Robert Jackson, Manager, Certificates & Regulatory Administration, Portland Natural Gas Transmission System, 700 Louisiana Street, Suite 700, Houston, Texas 77002-2700, or call (832) 320-5487, or email: robert_jackson@transcanada.com.

Pursuant to section 157.9 of the Commission's rules (18 CFR 157.9), within 90 days of this Notice, the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the eFiling link at http://www.ferc.gov. Persons unable to file electronically should submit an original and 5 copies of the protest or intervention to the Federal Energy regulatory Commission, 888 First Street NE, Washington, DC 20426.

Comment Date: 5:00 p.m. Eastern Time on May 23, 2018

Dated: May 2, 2018.
Kimberly D. Bose,
Secretary.

[FR Doc. 2018-09713 Filed 5-7-18; 8:45 am]

BILLING CODE 6717-01-P